BUREAU OF CONSUMER FINANCIAL PROTECTION

[Docket No. CFPB-2018-0018]

Agency Information Collection Activities: Comment Request; Correction

AGENCY: Bureau of Consumer Financial Protection.

ACTION: Notice and request for comment.

SUMMARY: The Bureau of Consumer Financial Protection published a notice in the Federal Register on May 14, 2018 concerning a request for comments on the proposed revision of a currently approved collection of an Office of Management and Budget (OMB) control number. The information collection title in the notice was incorrect.

FOR FURTHER INFORMATION CONTACT: The Bureau of Consumer Financial Protection, (Attention: PRA Office), 1700 G Street NW, Washington, DC 20552, (202) 435-9575, or email: CFPB_PRA@cfpb.gov. If you require this document in an alternative electronic format, please contact CFPB_Accessibility@cfpb.gov.

Correction

In the Federal Register of May 14, 2018 in FR Doc. 2018-10221 on page 22254, in the third column, and on page 22255, in the first column, correct “Compliant” to read: “Complaint.”

Dated: June 12, 2018.
Darrin A. King,
Paperwork Reduction Act Officer, Bureau of Consumer Financial Protection.

[FR Doc. 2018-12908 Filed 6-14-18; 8:45 am]

BILLING CODE 4810-AM-P